DEPARTMENT OF HOUSING AND URBAN DEVELOPMENT

[Docket No. FR-6049-N-01]

Drafting a New Federal Strategy To Reduce Childhood Lead Exposures and Impacts: Request for Information

AGENCY: Office of Lead Hazard Control and Healthy Homes, HUD.

ACTION: Request for information.

SUMMARY: Through this notice, the U.S. Department of Housing and Urban Development (HUD), which co-chairs the Lead Subcommittee of the President's Task Force on Environmental Health Risks and Safety Risks to Children (Task Force) requests public comment on a new federal lead strategy being developed by the Task Force.

DATES: Comments Due Date: November 24, 2017.

ADDRESSES: Interested persons are invited to submit comments responsive to this request for information. Comments should refer to the proposal by name and/or Office of Management and Budget (OMB) Control Number, and should be sent, either electronically to the email address of the Task Force for commenting on this federal lead strategy, FedLeadStrategy@nih.gov, or by mail to Warren Friedman, Ph.D., CIH, Senior Advisor to the Director, Office of Lead Hazard Control and Healthy Homes, Department of Housing and Urban Development, 451 7th Street SW., Room 8236, Washington, DC 20410.

FOR FURTHER INFORMATION CONTACT: Warren Friedman, Ph.D., Office of Lead Hazard Control and Healthy Homes, Department of Housing and Urban Development, 451 7th Street SW., Room 8236, Washington, DC 20410; telephone number 202-402-7698 (this is not a toll-free number). Persons with hearing or speech impairments may access this number through TTY by calling the Federal Relay Service, 800-877-8339 (toll-free number).

SUPPLEMENTARY INFORMATION:

I. Background

President's Task Force

On April 21, 1997, the President issued Executive Order 13045,¹ establishing the President's Task Force on Environmental Health Risks and Safety Risks to Children. The Task Force works to identify children's environmental health and safety issues, develops federal interagency strategies to protect children's environmental health and safety, and communicates information to federal, state, and local decision makers to protect children from environmental health risks.² Among other things, the Task Force is developing a comprehensive strategy to further reduce lead exposure in children's environments.³ The Task Force has 11 executive agency members and 7 Executive Office of the President agency members.⁴ Ongoing activities of the Task Force are managed by its Senior Staff Steering Committee, co-chaired by the Environmental Protection Agency (EPA) and Health and Human Services (HHS). The Senior Staff Steering Committee has established five subcommittees, one of which is the Lead Subcommittee, which is co-chaired by HUD, EPA, and HHS staff.

¹ The Executive Order was subsequently published in the Federal Register on April 23, 1997, at 62 FR 19885.

² The Task Force's Web site is available at: https://ptfceh.niehs.nih.gov.

³ The Task Force's Web site's lead exposures page is available at: https://ptfceh.niehs.nih.gov/activities/lead-exposures/.

⁴ The member agencies are listed on the Task Force's Web site's “About” page and is available at: https://ptfceh.niehs.nih.gov/about/.

Lead Reports by the Task Force

In February 2000, the Task Force published “Eliminating Childhood Lead Poisoning: A Federal Strategy Targeting Lead Paint Hazards.” ⁵ The strategy put forward a set of recommendations aimed at eliminating childhood lead poisoning in the United States as a major public health problem by the year 2010. It focused primarily on expanding efforts to correct lead paint hazards (especially in low-income housing), a major source of lead exposure for children. Addressing lead exposures in the United States, however, requires consideration of sources of lead exposure in addition to lead paint, including, among others, soil, food, drinking water, and consumer products.

⁵ The strategy is available at: https://www.cdc.gov/nceh/lead/about/fedstrategy2000.pdf.

In November 2016, the Task Force published “Key Federal Programs to Reduce Childhood Lead Exposures and Eliminate Associated Health Impacts.” ⁶ This inventory report summarized the efforts of nine federal departments and agencies currently planned or underway to understand, prevent, and reduce various sources of lead exposure among children. These efforts include a wide range of activities such as research, surveillance, regulation, and enforcement, as well as community interventions and educational outreach. The report also provided a basis for increased coordination and collaboration among multiple federal agencies that, as with previous progress on the issue of lead exposures, will be required to further protect the nation's children.

⁶ The report is available at: https://ptfceh.niehs.nih.gov/features/assets/files/key_federal_programs_to_reduce_childhood_lead_exposures_and_eliminate_associated_health_impactspresidents_508.pdf.

Development of a Comprehensive Federal Lead Strategy

The Task Force determined that the inventory report provides a starting point for the development of a comprehensive federal lead strategy that will inform policy makers about evidence gaps and steps needed to further reduce lead exposures in children in the United States. The Task Force charged its Lead Subcommittee with drafting the strategy, conducting outreach to stakeholder groups, and soliciting comments from stakeholders for consideration in developing the strategy. This Request for Information (RFI) is part of the comment solicitation process.

II. Key Components of the Draft Federal Lead Strategy

1. A vision of this new federal lead strategy, such as to ensure that the United States will become a place where children live, learn and play free from the harmful effects of lead exposure.

2. A mission of the strategy, such as to improve the health of children in the United States, through federal collaboration, by eliminating harm from lead exposure.

3. A background section that includes the following topics: The Task Force, its lead activities, including development of its 2000 federal lead paint strategy, 2016 inventory report, and this strategy; the problems to be addressed by this strategy; children's lead exposure, including exposure sources, routes, and pathways; lead doses and blood-lead levels lead toxicity, and children's health effects; and federal lead and related (e.g., environmental justice, fair housing, civil rights) statutes, regulations, policy, and guidance.

4. A set of goals for the strategy, such as to effect the following: Reducing sources of lead exposure in children's environments; improving identification and monitoring of lead exposed children; improving the health of children identified as lead-exposed; communicating effectively and consistently with stakeholders about childhood lead exposure; supporting or conducting research to advance our scientific understanding of the effects, evaluation, and control of lead hazards in children's environments.

5. Under each of the goals, a set of objectives that would further define the focus of this strategy.

6. Under each of the objectives, specific actions that would further the enumerated goals of the strategy.⁷

⁷ A starting point for developing actions could be the list of over 58 current and planned Federal programs and activities in Section 7 of the November 2016 inventory report. The actions under the strategy would not be limited to those programs and activities in the inventory report. Similarly, not all those programs and activities need to be mentioned in the strategy because of the need to keep the strategy to manageable size and focus. But such a decision should not be used to infer that the Task Force considers that any programs or activities not mentioned are less important than those mentioned.

III. Request for Information

The purpose of this RFI is to solicit feedback on developing the new federal lead strategy report. HUD encourages participation from stakeholder groups, including the general public; non-governmental organizations, including philanthropic organizations; health care providers; the housing industry; the general aviation industry; health economics researchers; outcomes researchers; environmental firms, including certified lead professionals; and lead hazard control firms.

While HUD, as co-chair of the Lead Subcommittee, welcomes comments on all aspects of the drafting of a new federal lead strategy, HUD is particularly interested in receiving comments and data on the following:

1. Priority Risks and Goals

a. What priority risks, for example, exposures from housing, air, water, soil, food, etc., and issues should be addressed in a new federal lead strategy?

b. Should any of the suggested goals above be deleted or revised, and/or should any goals be added? Within the suggested goals above (as stated, or as you would revise them), or additional goals, what specific objectives should be identified?

2. Strategy Development and Implementation

a. What actions should be implemented to address these priority risks and issues?

b. What obstacles should be considered in determining which actions to include in the strategy? What obstacles pertain to one or more goals, objectives, or actions? Please be specific about the anticipated impact of the obstacles.

c. How can the obstacles be overcome? What effect, if any, would the effort to overcome these obstacles have on the ability to achieve the goals of the strategy?

3. Messaging and Outreach

a. What federal agency messaging regarding lead exposure in children, including information on where lead is found and how to avoid exposure, have been useful in the past and to which audiences? How could such messaging be improved?

b. Which non-Federal partners should the Task Force consult with to address the environmental health risks and safety risks of lead exposure to children, and why? Please identify specific organizations, or categories of organizations.

IV. Request for Information Response Guidelines

If you submit comments by email, your response must be provided as one or more attachments, specifically, as Microsoft Word (.doc or .docx) or Microsoft Excel (.xls or .xslx) attachment. Graphics may be provided as JPEG (.jpg or .jpeg) file attachments or as JPEG images embedded in the Microsoft Word or Excel attachments. It is recommended that emails with attachments having total file sizes exceeding 10 MB be compressed (.zip or .zipx) to ensure message delivery. If you submit comments by mail, your response should be no longer than 50 pages.

Please provide the following information at the start of your response to this RFI: Company/institution name (if applicable); contact information, including address, phone number, and email address. Do not submit Confidential Business Information (CBI) in your response to this RFI. Responses identified as containing CBI will not be reviewed and will be discarded.

Please identify your answers by responding to a specific question or topic if applicable. You may answer as many or as few questions as you wish. HUD will not respond to individual submissions or publish publicly a compendium of responses.

To help you prepare your comments, please see the How Do I Prepare Effective Comments segment of the Commenting on HUD Rules Web page, https://www.hud.gov/program_offices/general_counsel/Commenting-On-HUD-Rules#1. While written for commenting on regulatory proposals, these tips are generally applicable to this RFI.

Dated: October 18, 2017.
Matthew Ammon,
Director, Office of Lead Hazard, Control and Healthy Homes.

[FR Doc. 2017-23039 Filed 10-23-17; 8:45 am]

BILLING CODE P